NATIONAL FOUNDATION ON THE ARTS AND THE HUMANITIES

Institute of Museum and Library Services

Notice of Proposed Information Collection Requests: 2025-2027 IMLS Native American Library Services Basic Grants Program—Final Performance Report Form

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this Notice is to solicit comments concerning renewal of the three-year approval of the forms necessary to report on grant and cooperative agreement activities on interim and final bases for all IMLS grant programs for 2025-2027 IMLS Native American Library Services Basic Grants Program—Final Performance Report Form. A copy of the proposed information collection request can be obtained by contacting the individual listed below in the ADDRESSES section of this Notice.

DATES: Written comments must be submitted to the office listed in the addressee section below on or before March 28, 2025.

ADDRESSES: Send comments to Julie Balutis, Director of Grants Management, Office of Grants Management, Institute of Museum and Library Services, 955 L'Enfant Plaza North SW, Suite 4000, Washington, DC 20024-2135. Ms. Balutis can be reached by telephone: 202-653-4645, or by email at jbalutis@imls.gov. Office hours are from 8:30 a.m. to 5 p.m., E.T., Monday through Friday, except Federal holidays.

Persons who are deaf or hard of hearing (TTY users) can contact IMLS at 202-207-7858 via 711 for TTY-Based Telecommunications Relay Service.

FOR FURTHER INFORMATION CONTACT: Sandra Narva, Senior Grants Management Specialist Team Lead, Office of Grants Management, Institute of Museum and Library Services, 955 L'Enfant Plaza North SW, Suite 4000, Washington, DC 20024-2135. Ms. Narva can be reached by telephone at 202-653-4634, or by email at snarva@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

IMLS is the primary source of federal support for the Nation's libraries and museums. We advance, support, and empower America's museums, libraries, and related organizations through grant making, research, and policy development. To learn more, visit www.imls.gov.

II. Current Actions

To administer the IMLS processes associated with Native American Library Services Basic Grants, IMLS uses standardized application forms, guidelines, and reporting forms for eligible Native American tribes. The form submitted for public review in this Notice is the Final Performance Report Form with instructions. The collection of information using this form is core to IMLS grant performance reporting requirements and monitoring processes.

This action is to renew the content, form, and instructions for the next three years.

Agency: Institute of Museum and Library Services.

Title: 2025-2027 IMLS Native American Library Services Basic Grants Program—Final Performance Report Form.

OMB Control Number: 3137-0098.

Agency Number: 3137.

Respondents/Affected Public: Native American Basic grant program recipients.

Total Estimated Number of Annual Respondents: 180.

Frequency of Response: Once per request.

Estimated Average Burden Hours per Response: 2.

Total Estimated Number of Annual Burden Hours: 360.

Total Annual Cost Burden: $11,869.

Total Annual Federal Costs: $15,480.

Public Comments Invited: Comments submitted in response to this Notice will be summarized and/or included in the request for OMB's clearance of this information collection.

Dated: January 21, 2025.
Suzanne Mbollo,
Grants Management Specialist, Institute of Museum and Library Services.

[FR Doc. 2025-01741 Filed 1-24-25; 8:45 am]

BILLING CODE 7036-01-P